DEPARTMENT OF TRANSPORTATION

Federal Aviation Administration

14 CFR Part 39

[Docket No. FAA-2009-0310; Directorate Identifier 2009-NM-012-AD; Amendment 39-16073; AD 2009-23-02]

RIN 2120-AA64

Airworthiness Directives; Bombardier Model CL-600-2B19 (Regional Jet Series 100 & 440) Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

During the Acceptance Test Procedure (ATP) of returned Inboard Flap Actuators * * * an excessive wear condition was identified regarding endplay between the flap actuator and ball screw. Excessive wear of the screw and ball nut could potentially lead to a flap system jam. * * *

* * * * *

The unsafe condition is a flap system jam, which could result in a skewed flap condition with consequent reduced controllability of the airplane. We are issuing this AD to require actions to correct the unsafe condition on these products.

DATES: This AD becomes effective December 14, 2009.

The Director of the Federal Register approved the incorporation by reference of a certain publication listed in this AD as of December 14, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Fabio Buttitta, Aerospace Engineer, Airframe and Mechanical Systems Branch, ANE-171, FAA, New York Aircraft Certification Office, 1600 Stewart Avenue, Suite 410, Westbury, New York 11590; telephone (516) 228-7303; fax (516) 794-5531.

SUPPLEMENTARY INFORMATION:

Discussion

We issued a notice of proposed rulemaking (NPRM) to amend 14 CFR part 39 to include an AD that would apply to the specified products. That NPRM was published in the Federal Register on April 6, 2009 (74 FR 15399). That NPRM proposed to correct an unsafe condition for the specified products. The MCAI states:

During the Acceptance Test Procedure (ATP) of returned Inboard Flap Actuators [with Bombardier] Part Number (PN) 601R93101-19 [and Eaton PN 852D100-19], an excessive wear condition was identified regarding endplay between the flap actuator and ball screw. Excessive wear of the screw and ball nut could potentially lead to a flap system jam. A Temporary Revision (TR) has been made to the Bombardier CL-600-2B19 Maintenance Requirements Manual (MRM), Appendix A, “Certification Maintenance Requirements” (CMR) to ensure that unacceptable wear on the nut and ball screw is detected and corrected.

Revision 1 of this directive introduces a new phase-in schedule for performing a new CMR task C27-50-300-01.

The unsafe condition is a flap system jam, which could result in a skewed flap condition with consequent reduced controllability of the airplane. You may obtain further information by examining the MCAI in the AD docket.

Comments

We gave the public the opportunity to participate in developing this AD. We considered the comments received.

Support for the NPRM

The Air Line Pilots Association, International (ALPA), supports the NPRM. Given the potential consequences of a flap system jam while in flight, ALPA agrees that all reasonable steps should be taken to avoid such an occurrence, and encourages the FAA to implement the proposal as soon as possible.

Request To Confirm an Applicable Part Number

Robert E. Briggs, a private citizen, requests that we confirm that Eaton PN 852D100-19, listed in the Bombardier CL-600-2B19 CMR, is also subject to this AD, as is the Bombardier PN 601R93101-19 specified in the NPRM.

We agree. We have confirmed that both Eaton PN 852D100-19 and Bombardier PN 601R93101-19, the inboard flap actuators, are subject to the unsafe condition addressed by this AD. Both part numbers are specified in the service information identified in the NPRM and this final rule. We have revised the Discussion section and paragraph (e) of this AD to clarify that both the Bombardier and Eaton parts are affected.

Request To Revise Compliance Time

Mr. Briggs states that the NPRM proposed an initial compliance time for the new CMR task of 500 flight hours after the effective date of the AD, while the CMR specifies an initial compliance time of 2,000 flight cycles from November 7, 2007. Mr. Briggs asks why there is a difference with flight hours and flight cycles, and asserts that it would be easier to track and less confusing if they were the same.

From this comment, we infer that Mr. Briggs is requesting that we revise the proposed compliance time specified in paragraph (f) of the NPRM. We do not agree. Transport Canada Civil Aviation (TCCA), in its Airworthiness Directive (AD) CF-2008-33R1, dated January 9, 2009 (referenced in the NPRM as the MCAI), gave an additional 500 flight hours (not cycles) as a grace period only to avoid grounding airplanes that have already reached the initial compliance time, but that have not yet done the initial functional check introduced in Bombardier Temporary Revision 2A-41, dated November 7, 2007. Operators that have done the initial functional check before the effective date of the AD are required to comply with the CMR schedule. We concur with TCCA's decision to include the additional time for those airplanes to comply with this AD; therefore, we have not changed the AD in this regard.

Request To Withdraw the NPRM

Air Wisconsin Airlines Corporation (Air Wisconsin) states that an AD is redundant in this case because the applicable CMR is already mandatory, and an AD puts the two documents in conflict.

From this comment, we infer that Air Wisconsin is requesting that we withdraw the NPRM. We do not agree. The FAA issues an AD on a specific product when we find that an unsafe condition exists in the product and the condition is likely to exist or develop in other products of the same type design. In this case, we have identified an unsafe condition of excessive wear of the ball screw and ball nut of certain inboard flap actuators. This AD introduces a new phase-in schedule for performing a new CMR task (inspecting the ball screw and ball nut) to correct that unsafe condition. If a conflict arises between an AD and the specified service information, the AD must be followed. We have not changed the AD in this regard.

Explanation of Change to the Unsafe Condition

We have revised the unsafe condition statement throughout this AD to expand on the possible end-level effect of a flap system jam.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect 668 products of U.S. registry. We also estimate that it will take about 3 work-hours per product to comply with the basic requirements of this AD. The average labor rate is $80 per work-hour. Based on these figures, we estimate the cost of this AD to the U.S. operators to be $160,320, or $240 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-23-02 Bombardier, Inc. (Formerly Canadair): Amendment 39-16073. Docket No. FAA-2009-0310; Directorate Identifier 2009-NM-012-AD.

Effective Date

(a) This airworthiness directive (AD) becomes effective December 14, 2009.

Affected ADs

(b) None.

Applicability

(c) This AD applies to Bombardier Model CL-600-2B19 (Regional Jet Series 100 & 440) airplanes, all serial numbers, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (g)(1) of this AD. The request should include a description of changes to the required inspections that will ensure the continued operational safety of the airplane.

Subject

(d) Air Transport Association (ATA) of America Code 27: Flight Controls.

Reason

(e) The mandatory continuing airworthiness information (MCAI) states:

During the Acceptance Test Procedure (ATP) of returned Inboard Flap Actuators [with Bombardier] Part Number (PN) 601R93101-19 [and Eaton PN 852D100-19], an excessive wear condition was identified regarding endplay between the flap actuator and ball screw. Excessive wear of the screw and ball nut could potentially lead to a flap system jam. A Temporary Revision (TR) has been made to the Bombardier CL-600-2B19 Maintenance Requirements Manual (MRM), Appendix A, “Certification Maintenance Requirements” (CMR) to ensure that unacceptable wear on the nut and ball screw is detected and corrected.

Revision 1 of this directive introduces a new phase-in schedule for performing a new CMR task C27-50-300-01.

The unsafe condition is a flap system jam, which could result in a skewed flap condition with consequent reduced controllability of the airplane.

Actions and Compliance

(f) Unless already done, within 30 days after the effective date of this AD, revise the Airworthiness Requirements Section of the Bombardier CL-600-2B19 MRM to include the information in Bombardier TR 2A-41, dated November 7, 2007, to Appendix A of the Airworthiness Requirements, Part 2, of the Bombardier CL-600-2B19 MRM. The initial compliance with the new CMR task must be done within 500 flight hours after the effective date of this AD.

Note 2: The actions required by paragraph (f) of this AD may be done by inserting a copy of Bombardier TR 2A-41, dated November 7, 2007, to Appendix A of the Airworthiness Requirements, Part 2, of the Bombardier CL-600-2B19 MRM. When this TR has been included in general revisions of the MRM, the TR may be removed from the MRM, provided the relevant information in the general revision is identical to that in Bombardier TR 2A-41, dated November 7, 2007.

FAA AD Differences

Note 3: This AD differs from the MCAI and/or service information as follows: No differences.

Other FAA AD Provisions

(g) The following provisions also apply to this AD:

(1) Alternative Methods of Compliance (AMOCs): The Manager, New York Aircraft Certification Office (ACO), FAA, has the authority to approve AMOCs for this AD, if requested using the procedures found in 14 CFR 39.19. Send information to ATTN: Fabio Buttitta, Aerospace Engineer, Airframe and Mechanical Systems Branch, ANE-171, FAA, New York ACO, 1600 Stewart Avenue, Suite 410, Westbury, New York 11590; telephone (516) 228-7303; fax (516) 794-5531. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI Canadian Airworthiness Directive CF-2008-33R1, dated January 9, 2009; and Bombardier TR 2A-41, dated November 7, 2007, to Appendix A of the Airworthiness Requirements, Part 2, of the Bombardier CL-600-2B19 MRM; for related information.

Material Incorporated by Reference

(i) You must use Bombardier Temporary Revision 2A-41, dated November 7, 2007, to Appendix A of the Airworthiness Requirements, Part 2, of the Bombardier CL-600-2B19 Maintenance Requirements Manual, to do the actions required by this AD, unless the AD specifies otherwise.

(1) The Director of the Federal Register approved the incorporation by reference of this service information under 5 U.S.C. 552(a) and 1 CFR part 51.

(2) For service information identified in this AD, contact Bombardier, Inc., 400 Côte-Vertu Road West, Dorval, Québec H4S 1Y9, Canada; telephone 514-855-5000; fax 514-855-7401; e-mail thd.crj@aero.bombardier.com; Internet http://www.bombardier.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on October 19, 2009.
Ali Bahrami,
Manager, Transport Airplane Directorate, Aircraft Certification Service.

[FR Doc. E9-26296 Filed 11-6-09; 8:45 am]

BILLING CODE 4910-13-P